DEPARTMENT OF JUSTICE

Notice of Lodging of a Consent Decree Pursuant to the Clean Water Act and the Resource Conservation and Recovery Act

Notice is hereby given that a proposed Consent Decree in United States of America v. City and County of San Francisco, California, No. C 09-5104 JSW, was lodged on October 27, 2009, with the United States District Court for the Northern District of California.

In this case, the United States of American asserted claims against the City and County of San Francisco, California, for violations of the Clean Water Act, 33 U.S.C. Section 1251, et seq., and the Resource Conservation and Recovery Act, 42 U.S.C. Section 6901, et seq., arising from the release of red dye diesel fuel from the San Francisco Municipal Transit Authority (SF Muni) Woods bus servicing facility located at 1095 Indiana Street in San Francisco, during late November and December of 2005. The United States also alleged claims for violations of spill prevention requirements at three other facilities: The Flynn Facility, located at 15th and Harrison Street; the Kirkland Facility, located at 151 Beach Street; and the Marin Facility, located at 1399 Marin Street.

Under the proposed Consent Decree, the City and County of San Francisco will pay a civil penalty of $250,000. It will also implement an Incident Command System training program for SF Muni staff that will improve coordination and communication during future incidents of this nature. In addition to the measures to be taken under the Consent Decree, the City and County of San Francisco had previously undertaken remedial measures to clean up the spill at the Woods facility and evaluated procedures and upgraded facilities to prevent further spills.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States of America v. City and County of San Francisco, California, DJ No. 90-5-1-1-09289.

The proposed Consent Decree may be examined at the office of the United States Attorney for the Northern District of California, 450 Golden Gate Avenue, San Francisco, CA 68102, and at the Region 9 Office of the Environmental Protection Agency, 75 Hawthorne Street, San Francisco, CA 94105. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $10.50 (25 cents per page reproduction cost) payable to the U.S. Treasury. The check should refer to United States of America v. City and County of San Francisco, California, DJ No. 90-5-1-1-09289.

Maureen Katz,
Assistant Section Chief, Environmental Enforcement Section, Environment and Natural Resources Division.

[FR Doc. E9-26665 Filed 11-4-09; 8:45 am]

BILLING CODE 4410-15-P